Title 3—

The President

Executive Order 14318 of July 23, 2025

Accelerating Federal Permitting of Data Center Infrastructure

By the authority vested in me as President by the Constitution and the laws of the United States of America, it is hereby ordered:

Section 1. Policy and Purpose. My Administration has inaugurated a golden age for American manufacturing and technological dominance. We will pursue bold, large-scale industrial plans to vault the United States further into the lead on critical manufacturing processes and technologies that are essential to national security, economic prosperity, and scientific leadership. These plans include artificial intelligence (AI) data centers and infrastructure that powers them, including high-voltage transmission lines and other equipment. It will be a priority of my Administration to facilitate the rapid and efficient buildout of this infrastructure by easing Federal regulatory burdens.

In addition, my Administration will utilize federally owned land and resources for the expeditious and orderly development of data centers. This usage will be done in a manner consistent with the land's intended purpose—to be used in service of the prosperity and security of the American people.

Sec. 2. Definitions. For purposes of this order:

(a) “Data Center Project” means a facility that requires greater than 100 megawatts (MW) of new load dedicated to AI inference, training, simulation, or synthetic data generation.

(b) “Covered Components” means materials, products, and infrastructure that are required to build Data Center Projects or otherwise upon which Data Center Projects depend, including:

(i) energy infrastructure, such as transmission lines, natural gas pipelines or laterals, substations, switchyards, transformers, switchgear, and system protective facilities;

(ii) natural gas turbines, coal power equipment, nuclear power equipment, geothermal power equipment, and any other dispatchable baseload energy sources, including electrical infrastructure (including backup power supply) constructed or otherwise used principally to serve a Data Center Project;

(iii) semiconductors and semiconductor materials, such as wafers, dies, and packaged integrated circuits;

(iv) networking equipment, such as switches and routers; and

(v) data storage, such as hardware storage systems, software for data management and protection, and integrated services that work with public cloud providers.

(c) “Covered Component Project” means infrastructure comprising Covered Components, or a facility with the primary purposes of manufacturing or otherwise producing Covered Components.

(d) “Qualifying Project” means:

(i) a Data Center Project or Covered Component Project for which the Project Sponsor has committed at least $500 million in capital expenditures as determined by the Secretary of Commerce;

(ii) a Data Center Project or Covered Component Project involving an incremental electric load addition of greater than 100 MW;

(iii) a Data Center Project or Covered Component Project that protects national security; or

(iv) a Data Center Project or Covered Component Project that has otherwise been designated by the Secretary of Defense, the Secretary of the Interior, the Secretary of Commerce, or the Secretary of Energy as a “Qualifying Project”.

(e) “Project Sponsor” means the lead sponsor providing financial and other support for a Data Center Project or Covered Component Project, as determined by the Secretary of Defense, the Secretary of the Interior, the Secretary of Commerce, or the Secretary of Energy, as appropriate.

(f) “Superfund Site” means any site where action is being taken pursuant to 42 U.S.C. 9604, 9606, or 9620.

(g) “Brownfield Site” means a site as defined in 42 U.S.C. 9601(39).

Sec. 3. Encouraging Qualifying Projects. The Secretary of Commerce, in consultation with the Director of the Office of Science and Technology Policy (OSTP) and other relevant executive departments and agencies (agencies), shall launch an initiative to provide financial support for Qualifying Projects, which could include loans and loan guarantees, grants, tax incentives, and offtake agreements. All relevant agencies shall identify and submit to the Director of OSTP any such relevant existing financial support that can be used to assist Qualifying Projects, consistent with the protection of national security.

Sec. 4. Revocation of Executive Order 14141. Executive Order 14141 of January 14, 2025 (Advancing United States Leadership in Artificial Intelligence Infrastructure), is hereby revoked.

Sec. 5. Efficient Environmental Reviews. (a) Within 10 days of the date of this order, each relevant agency shall identify to the Council on Environmental Quality any categorical exclusions already established or adopted by such agency pursuant to the National Environmental Policy Act (NEPA), reliance on and adoption of which by agencies (pursuant to 42 U.S.C. 4336 and 4336c) could facilitate the construction of Qualifying Projects.

(b) The Council on Environmental Quality shall coordinate with relevant agencies on the establishment of new categorical exclusions to cover actions related to Qualifying Projects that normally do not have a significant effect on the human environment. Agencies shall, for purposes of establishing these categorical exclusions, rely on any sufficient basis to do so as each such agency determines.

(c) Consistent with 42 U.S.C. 4336e(10)(B)(iii), loans, loan guarantees, grants, tax incentives, or other forms of Federal financial assistance for which an agency lacks substantial project-specific control and responsibility over the subsequent use of such financial assistance shall not be considered a “major Federal action” under NEPA. For purposes of this order, Federal financial assistance representing less than 50 percent of total project costs shall be presumed not to constitute substantial Federal control and responsibility.

Sec. 6. Efficiency and Transparency Through FAST-41. (a) The Executive Director (Executive Director) of the Federal Permitting Improvement Steering Council (FPISC) may, within 30 days of the date that a project is identified to FPISC by a relevant agency, designate a Qualifying Project as a transparency project pursuant to 42 U.S.C. 4370m-2(b)(2)(A)(iii) and section 41003 of the Fixing America's Surface Transportation Act (Public Law 114-94, 129 Stat. 1312, 1747) (FAST-41). Within 30 days of receiving such agency notification, the Executive Director may publish Qualifying Projects on the Permitting Dashboard established under section 41003(b) of FAST-41, including schedules for expedited review.

(b) In consultation with Project Sponsors, the Executive Director shall expedite the transition of eligible Qualifying Projects from transparency projects to FAST-41 “covered projects” as defined by 42 U.S.C. 4370m(6)(A). To the extent that a Qualifying Project does not meet the criteria set forth in 42 U.S.C. 4370m(6)(A)(i) or (iii), FPISC may consider all other available options to designate the project a covered project under 42 U.S.C. 4370m(6)(A)(iv).

Sec. 7. Streamlining of Permitting Review. (a) The Administrator of the Environmental Protection Agency shall assist in expediting permitting on Federal and non-Federal lands by developing or modifying regulations promulgated under the Clean Air Act (42 U.S.C. 7401 et seq.); the Clean Water Act (33 U.S.C. 1251 et seq.); the Comprehensive Environmental Response, Compensation, and Liability Act (42 U.S.C. 9601 et seq.); the Toxic Substances Control Act (15 U.S.C. 2601 et seq.); and other relevant applicable laws, in each case, that impact the development of Qualifying Projects.

(b) The Administrator of the Environmental Protection Agency shall, consistent with the Environmental Protection Agency's statutory authorities, expeditiously identify Brownfield Sites and Superfund Sites for use by Qualifying Projects. As part of this effort, within 180 days of the date of this order, the Administrator of the Environmental Protection Agency shall develop guidance to help expedite environmental reviews for qualified reuse and assist State governments and private parties to return such Brownfield Sites and Superfund Sites to productive use as expeditiously as possible.

Sec. 8. Biological and Water Permitting Efficiencies. (a) Upon identification of sites by the Secretary of the Interior and the Secretary of Energy as described in section 9 of this order, the action agency, as identified through the process described in the Endangered Species Act (16 U.S.C. 1531-1544) (ESA), shall initiate consultation under section 7 of the ESA with the Secretary of the Interior, the Secretary of Commerce, or both with respect to common construction activities for Qualifying Projects that will occur over the next 10 years at a programmatic level. The Secretary of the Interior and the Secretary of Commerce shall utilize programmatic consultation to ensure timely and efficient completion of such consultation.

(b) Within 180 days of the date of this order, the Secretary of the Army, acting through the Assistant Secretary of the Army for Civil Works, shall review the nationwide permits issued under section 404 of the Clean Water Act of 1972 (33 U.S.C. 1344) and section 10 of the Rivers and Harbors Appropriation Act of 1899 (33 U.S.C. 403) to determine whether an activity-specific nationwide permit is needed to facilitate the efficient permitting of activities related to Qualifying Projects.

Sec. 9. Federal Lands Availability. (a) The Department of the Interior and the Department of Energy shall, after consultation with industry and further in consultation with the Department of Commerce as to the Project Sponsors to which relevant authorizations shall be granted, offer appropriate authorizations for sites identified by the Secretary of the Interior or the Secretary of Energy, as applicable and appropriate for the relevant uses, consistent with 42 U.S.C. 2201, 42 U.S.C. 7256, 43 U.S.C. 1701 et seq., and all other applicable law.

(b) The Secretary of Defense shall, pursuant to 10 U.S.C. 2667 or other applicable law and as and when the Secretary of Defense deems it necessary or desirable, identify suitable sites on military installations for Covered Component infrastructure uses and competitively lease available lands for Qualifying Projects to support the Department of Defense's energy, workforce, and mission needs, subject to security and force protection considerations.

Sec. 10. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Energy.

THE WHITE HOUSE,

July 23, 2025.

[FR Doc. 2025-14212

Filed 7-25-25; 8:45 am]

Billing code 6450-01-P